FEDERAL RETIREMENT THRIFT INVESTMENT BOARD

Sunshine Act; Notice of Meeting

TIME AND DATE: 8:30 a.m. October 27, 2014.

PLACE: 10th Floor Board Meeting Room, 77 K Street, NE., Washington, DC 20002.

STATUS: Parts will be open to the public and parts closed to the public.

MATTERS TO BE CONSIDERED:

Parts Open to the Public

1. Approval of the Minutes of the September 29, 2014 Board Member Meeting

2. Thrift Savings Plan Reports

a. Monthly Participant Activity Report

b. Quarterly Investment Policy Report

c. Legislative Report

3. BlackRock Account Review

4. Quarterly Reports

a. Vendor Financials

b. Audit Status

c. Budget Review

5. Internal Audit Charter

6. Annual Review of Capital Markets and L Funds (Mercer)

Parts Closed to the Public

1. Procurement

2. Personnel

CONTACT PERSON FOR MORE INFORMATION: Kimberly Weaver, Director Office of External Affairs, (202) 942-1640.

Dated: October 16, 2014.
James Petrick,
Secretary, Federal Retirement Thrift Investment Board.

[FR Doc. 2014-24973 Filed 10-16-14; 8:45 am]

BILLING CODE 6760-01-P